DEPARTMENT OF HOMELAND SECURITY

Coast Guard

[Docket No. USCG-2023-0928]

Shipping Safety Fairways Along the Atlantic Coast

AGENCY: Coast Guard, DHS.

ACTION: Notice of intent to prepare a Programmatic Environmental Impact Statement; notice of virtual and in-person scoping meetings; and request for comments.

SUMMARY: The Coast Guard, as the lead agency, announces its intent to prepare a Programmatic Environmental Impact Statement that will evaluate the potential environmental consequences of the Coast Guard's Proposed Action to establish shipping safety fairways and other routing measures along the Atlantic Coast of the United States. While vessels are not required to use them, fairways are designed to keep traditional navigation routes free from fixed structures that could impact navigation safety and impede other shared offshore activities. This Notice of Intent is intended to solicit feedback on preliminary alternatives to help the Coast Guard narrow the scope of the PEIS. The Coast Guard intends to host three in-person meetings and one virtual scoping public meeting to provide additional information to the public and to solicit input on potential issues, concerns, and reasonable alternatives that should be considered in the PEIS.

DATES: Comments must be submitted at one of the public meetings or in writing to the online docket via https://www.regulations.gov on or before March 8, 2024.

ADDRESSES: You may submit comments identified by docket number USCG-2023-0928 using the Federal Decision Making Portal at https://www.regulations.gov. See the “Public Participation and Request for Comments” portion of the SUPPLEMENTARY INFORMATION section for further instructions on submitting comments.

FOR FURTHER INFORMATION CONTACT: For information about this document call or email Maureen Kallgren, Coast Guard; telephone 202-372-1561, email Maureen.R.Kallgren2@uscg.mil.

SUPPLEMENTARY INFORMATION:

Public Participation and Request for Comments

We encourage you to submit comments (or related material) on preliminary alternatives to help the Coast Guard narrow the scope of the PEIS. If you submit a comment, please include the docket number for this notice, indicate the specific section of this document to which each comment applies, and provide a reason for each suggestion or recommendation.

Submitting comments. We encourage you to submit comments through the Federal Decision Making Portal at https://www.regulations.gov. To do so, go to https://www.regulations.gov, type USCG-2023-0928 in the search box and click “Search.” Next, look for this document in the Search Results column, and click on it. Then click on the Comment option. If your material cannot be submitted using https://www.regulations.gov, contact the person in the FOR FURTHER INFORMATION CONTACT section of this document for alternate instructions.

Viewing material in docket. To view documents mentioned in this notice as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments.

Personal information. We accept anonymous comments. Comments we post to https://www.regulations.gov will include any personal information you have provided. For more about privacy and submissions in response to this document, see DHS's eRulemaking System of Records notice (85 FR 14226, March 11, 2020).

Public Meetings

We plan to hold four public meetings, three of which will be held in person and one will be held virtually to solicit feedback. At these meetings, the Coast Guard will present an overview of the fairway development process and the environmental review process before holding a question-and-answer session with questions from the public.

The first in-person meeting will be from 6 p.m. to 8 p.m. on January 31 at White's of Westport, 66 State Road, Westport, MA. The second in-person meeting will be held from 6 p.m. to 8 p.m. on February 7 at the Georgia Southern University, Armstrong Campus Student Union, Ogeechee Theatre, 11935 Abercorn Street, Savannah, GA. The third in-person meeting will take place from 5 p.m. to 7 p.m. on February 12 at the Jordan Newby Branch at Broad Creek of the Norfolk Public Library, 1425 Norchester Ave, Norfolk, VA 23504. The fourth meeting will be held virtually on February 15 at https://www.zoomgov.com/j/1616731053, Meeting ID: 161 673 1053, or by telephone toll free at (833) 568-8864.

The public is encouraged to pre-register for these meetings using https://www.zoomgov.com/meeting/register/vJIscuGopz0sHYZCW1ycTGmfycGxN5CCF7k.

For information on facilities or services for individuals with disabilities or to request special assistance at the public meeting, contact the person named in the FOR FURTHER INFORMATION CONTACT section, above.

Background

This NOI briefly summarizes the Proposed Action, including the purpose and need and possible alternatives. As required by the National Environmental Policy Act (NEPA) and its implementing regulations (40 CFR 1500 through 1508, specifically 40 CFR 1502.3), a Federal agency must prepare an EIS if it is proposing a major Federal action. For this action, the Coast Guard has determined that a PEIS is the most appropriate type of environmental review because of the large geographic footprint of the proposed fairways. This process is designed to analyze the environmental consequences of each alternative to inform the agency's decision.

Purpose and Need for the Proposed Action

The Ports and Waterways Safety Act authorizes the Coast Guard to take certain actions to advance port, harbor, and coastal facility safety and security. Specifically, 46 U.S.C. 70001 and 70034 authorize the Secretary of the department in which the Coast Guard is operating to promulgate regulations to establish reporting and operating requirements, surveillance and communications systems, routing systems, and shipping safety fairways. The Secretary has delegated this authority to the Commandant of the Coast Guard (Department of Homeland Security (DHS) Delegation 00170.1, Revision No. 01.3, paragraph (II)(70)).

The Coast Guard proposes to codify existing vessel traffic patterns into shipping safety fairways, traffic separation schemes (TSSs), and precautionary areas along the Atlantic Coast of the United States. The Coast Guard recognizes current offshore development trends and other increased shared commercial activities on the Outer Continental Shelf (OCS) necessitate coordination between industries. We believe that OCS users are best served by the establishment of consistent and clearly defined navigation systems. More information on the proposed rules can be found in the Notice of Proposed Rulemaking (NPRM) 89 FR 3587.

Preliminary Proposed Action and Alternatives

Coast Guard has identified a Proposed Action and preliminary Alternatives for potential consideration in the PEIS. These alternatives, described below, represent the many potential forms that the fairways might ultimately take. These forms range from establishing no fairways at all to the extension of the proposed fairways to the outer limit of our authority on the OCS. This NOI is intended to solicit feedback on these alternatives to help the Coast Guard narrow the scope of the PEIS. Maps are available in the docket to help readers visualize the fairways and distinguish one alternative from another.

No Action

The Coast Guard will analyze a No-Action Alternative. For the purposes of this PEIS, the No-Action Alternative is defined as not establishing any fairways along the Atlantic Coast.

Alternative 1—Fairway Proposals Found in the Advanced Notice of Proposed Rulemaking (ANPRM)

Alternative 1 would establish shipping safety fairways consistent with those described in the 2020 ANPRM (85 FR 37034). This design is based on navigation safety corridors identified in the Atlantic Coast Port Access Route Study (Atlantic Coast PARS or ACPARS) prior to adaptations made based on further study and public input since 2020. In the ACPARS, the Coast Guard used Automatic Identification System (AIS) data and information from towing vessel and deep draft shipping organizations to identify traditionally used navigation routes.

The ACPARS identified nine primary navigation safety corridors as potentially suitable for designation as fairways. Three of these are primary navigation safety corridors along the coast and would most likely be used by smaller and slower moving vessels. Six offshore fairways are most likely to be used by larger and faster moving deep-draft vessels. The fairways proposed in the ACPARS vary in width from 5 to 10 nautical miles in width.

Alternative 2 (Proposed Action): The Proposed Rule: Fairways and Other Routing Measures Proposed in the NPRM

Alternative 2 (Proposed Action) would establish shipping safety fairways, TSS, precautionary areas, and one fairway anchorage included in the Notice of Proposed Rule Making (NPRM). 89 FR 3587. In the Proposed Rule, the Coast Guard is proposing 18 fairways, three TSS extensions, four new precautionary areas, two modified precautionary areas and one fairway anchorage. The proposed fairways vary in width from 3 to 35 nautical miles in width.

Alternative 3—Proposed Rule Plus Gulf of Maine Fairways

Alternative 3 would establish shipping safety fairways included in the Proposed Rule with the addition of fairways in the Gulf of Maine. As described in the Approaches to Maine, New Hampshire, and Massachusetts PARS, these additional fairways would include the Massachusetts Bay Fairway, the Gulf of Maine Fairway, the Coastal Zone Fairway, and two Portland approach fairways. See 88 FR 20547 for more information.

Alternative 4—Proposed Rule Plus South Florida Fairways

Alternative 4 establish shipping safety fairways included in the Proposed Rule with the addition of fairways in southern Florida. The additional fairways would be extended to include an area from approximately Port St. Lucie south to the approaches to the Port of Miami. Extensive port access studies are underway for this area but are in the preliminary stages of development.

Alternative 5—Proposed Rule Plus Maine and South Florida Fairways

Alternative 5 establish shipping safety fairways included in the Proposed Rule with the addition of fairways both in the Gulf of Maine and South Florida. As a result, this alternative would include fairways from the Gulf of Maine to the southern extent of Florida on the Atlantic Coast.

Alternative 6—Proposed Rule Plus East to West Extension to Exclusive Economic Zone (EEZ) for Specific Fairways

Alternative 6 would establish shipping safety fairways included in the Proposed Rule with the addition of several extensions that would expand certain east-west port-approach fairways out to the limit of the exclusive economic zone (EEZ). These extensions would cover approaches to and departures from the Port of New York/New Jersey, the Delaware Bay, the Chesapeake Bay, the Port of Morehead City in North Carolina, and the Port of Wilmington in North Carolina.

Alternative 7—Proposed Rule Plus Gulf of Maine, South Florida, and East to West Extension to EEZ for Specific Fairways

Alternative 7 would establish shipping safety fairways included in the Proposed Rule with the addition of fairways in the Gulf of Maine, fairways in South Florida, and several extensions that would expand certain east-west port-approach fairways out to the limit of the EEZ. These additions would include all the extensions considered by Alternative 6 with the addition of two extensions that would cover approaches to and departures from Portland, ME, and the Gulf of Maine.

Summary of Expected Impacts

NEPA requires the identification and evaluation of impacts to the human environment likely to be caused by an agency's proposed action. The PEIS proposed in this NOI will be a planning-level document and the Coast Guard will work toward environmental compliance during the design and designation of the fairways. The PEIS will analyze potential impacts to the human environment caused by each of the alternatives.

The broad geographic area of the Proposed Action may impact physical, biological, and socioeconomic resources. Impacts to resources associated with proposed fairways are generally due to disturbance, vessel strikes, noise, ballast and biofouling, and gas emissions. Biological and physical resources impacted by the proposed fairways may include water quality, air quality, habitat (e.g., benthic and water column habitats), managed and non-managed fishery resources (e.g., fish, elasmobranchs, such as sharks, and invertebrates), and protected resources including migratory birds, corals, fish (including elasmobranchs such as sharks), sea turtles and marine mammals. Impacts to these biological and physical resources that may be considered include protected species interactions (e.g., entanglement, vessel strikes); alteration to habitats; disease transmission risk; escapement risk (e.g., invasive species); water quality changes (e.g., nutrients, contaminants); habitat displacement and fragmentation (e.g., avoidance of high-density vessel traffic areas, increased marine debris); impacts to Essential Fish Habitat (EFH) such as fish migratory routes, open waters, hard bottom necessary for spawning, estuarine habitats, and coral reefs); ecosystem impacts (e.g., alteration of predator prey interactions); and acoustic, lighting and visual disturbances.

Under the Proposed Action, vessel noise, vessel operations, and vessel movement are not expected to result in significant impacts to the following resources: air quality, ambient sound, marine vegetation, marine invertebrates, flying insects, birds, bats, marine fish, EFH, commercial fishing, marine construction, mineral extraction, oil and gas extraction, recreation and tourism, existing renewable energy projects, research, transportation and shipping, and subsistence fishing and hunting. Pursuant to the Endangered Species Act of 1973 (ESA) (16 U.S.C. 1531 et seq.), listed species and critical habitats expected to occur in the Project Area include: fish (Atlantic salmon, Atlantic sturgeon, shortnose sturgeon, Nassau grouper, oceanic whitetip shark, scalloped hammerhead shark, giant manta ray), whales (North Atlantic right whale, blue whale, fin whale, sperm whale, Rice's whale, sei whale), sea turtles (green, Kemp's ridley, leatherback, loggerhead, hawksbill, and olive Ridley), and corals (boulder star, elkhorn, lobed star, mountainous star, pillar, rough cactus).

Pursuant to the Migratory Bird Treaty Act (MBTA; 16 U.S.C. 703-712 et seq.), the Proposed Action is not expected to result in a significant adverse effect on migratory bird populations. Pursuant to the Magnuson-Stevens Fishery Conservation and Management Act (MSA; 16 U.S.C. 1801-1882), the Proposed Action is not expected to adversely affect the quality or quantity of EFH in the Project Area.

Socioeconomic impacts considered in the PEIS may include impacts to commercial and recreational fishing; tourism and recreation; public health and safety; transportation; communications infrastructure; domestic and international seafood markets; oil, gas and alternative energy development and infrastructure; military preparedness; local ports, marinas and communities; and local job markets. Cultural and historic resources impacted could include archaeological sites, traditional fishing grounds and American Indian traditional uses. Environmental justice impacts considered include potential impacts of the action on vulnerable communities.

Wherever possible and supported by the best available science, the PEIS will recommend mitigation strategies to address potential impacts associated with Atlantic fairways establishment along the U.S. coast.

Anticipated Permits and Authorizations

The Coastal Zone Management Act (CZMA; 16 U.S.C. 1451 et seq.) was enacted to protect the coastal environment from demands associated with residential, recreational, and commercial uses. The Coast Guard will determine the impact of the Proposed Action and provide a Coastal Consistency Determination or Negative Determination to the appropriate state agencies.

The MSA requires Federal agencies to consult with the Secretary of Commerce, through the National Marine Fisheries Service (NMFS), with respect to “any action authorized, funded, or undertaken, or proposed to be authorized, funded, or undertaken, by such agency that may adversely affect any essential fish habitat identified under this Act,” 16 U.S.C. 1855(b)(2). The Coast Guard will determine the impact of the Proposed Rule and consult with the NMFS if necessary.

The ESA provides for the conservation of endangered and threatened species and the ecosystems on which they depend. The Coast Guard anticipates consulting under Section 7 of the ESA with the National Marine Fisheries Service and the U.S. Fish and Wildlife Service, which have jurisdiction over the species (50 CFR part 402.14(a)).

The MMPA (16 U.S.C. 1361 et seq.) established, with limited exceptions, a moratorium on the “taking” of marine mammals under U.S. jurisdiction, and on the High Seas by vessels or persons under U.S. jurisdiction. The MMPA further regulates “takes” of marine mammals on the High Seas. The term “take,” as defined in Section 3 (16 U.S.C. 1362) of the MMPA, means “to harass, hunt, capture, or kill, or attempt to harass, hunt, capture, or kill any marine mammal”. “Harassment” was further defined in the 1994 amendments to the MMPA as any act of pursuit, torment, or annoyance which (i) has the potential to injure a marine mammal or marine mammal stock in the wild (i.e., Level A Harassment); or (ii) has the potential to disturb a marine mammal or marine mammal stock in the wild by causing disruption of behavioral patterns, including, but not limited to, migration, breathing, nursing, breeding, feeding, or sheltering (i.e., Level B Harassment). The Coast Guard anticipates requesting a Letter of Authorization to “take” marine mammals, defined as Level B harassment.

The Clean Water Act (33 U.S.C. 1251, et seq.), Section 404 regulates the discharge of dredged or fill material into waters of the United States and the Rivers and Harbors Act (33 U.S.C. 403), Section 10 regulates the obstruction or alteration of navigable waters of the United States. The Coast Guard anticipates that a very limited amount of work conducted as part of the Proposed Action may require a permit from the Corps of Engineers under either the Clean Water Act or Rivers and Harbors Act.

The National Historic Preservation Act (NHPA; 16 U.S.C. 470, et seq.), Section 106, requires that each federal agency identify and assess the effects its actions may have on historic resources, including potential effects on historic structures, archaeological resources, and tribal resources. The Coast Guard will determine if any historic resources are present in the project area, evaluate the potential for the proposed action to adversely affect these resources, and consult with the relevant State Historic Preservation Officer and any interested or affected Tribes to resolve any adverse effects by developing and evaluating alternatives or measures that could avoid, minimize, or mitigate impacts.

The Clean Air Act (42 U.S.C. 7401, et seq.) regulates emissions from both stationary (industrial) sources and mobile sources. The Coast Guard would evaluate the potential for increased emissions during implementation of the fairways in order to determine if the emissions would be in conformity with the State Implementation Plan (SIP) for attainment of National Ambient Air Quality Standards. Since January 2020, all ships must burn fuel with a content of 0.5 percent sulfur to comply with an International Maritime Organization amendment to the International Convention for the Prevention of Pollution from Ships (MARPOL).

In addition, Coast Guard will complete Consultation with all affected Federally Recognized Tribes on a government-to-government basis in accordance with Executive Order 13175.

Schedule for the Decision-Making Process

Following the scoping period announced in this Notice of Intent, and after consideration of all comments received during scoping, Coast Guard will prepare a Draft PEIS for the Proposed Action to establish shipping safety fairways (“fairways”) along the Atlantic Coast of the United States. Once the Draft PEIS is completed, it will be made available for a 45-day public review and comment period. Coast Guard will announce the availability of the Draft PEIS in the Federal Register and local media outlets. Coast Guard expects the Draft PEIS will be available for public review and comment in 2024. In meeting CEQ regulations requiring EISs to be completed within 2 years, the Coast Guard anticipates the Final PEIS would be available in 2026. The Final PEIS would be published in the Federal Register. Should new information become available after the completion of the Draft or Final PEIS, supplemental NEPA documentation may be prepared in support of new information or changes in the Proposed Action considered under the PEIS.

Public Scoping Process

This NOI initiates the scoping process, which guides the development of the PEIS. The Coast Guard is seeking comments on the potential environmental impacts that may result from the Proposed Action or preliminary Alternatives. The Coast Guard is also seeking input on relevant information, studies, or analyses of any kind concerning impacts potentially affecting the quality of the human environment as a result of the Proposed Action. NEPA requires federal agencies to consider environmental impacts that may result from a Proposed Action, to inform the public of potential impacts and alternatives, and to facilitate public involvement in the assessment process. The PEIS would include, among other topics, discussions of the purpose and need for the Proposed Action, a description of alternatives, a description of the affected environment, and an evaluation of the environmental impact of the Proposed Action and alternatives.

The Coast Guard intends to follow the CEQ regulations (40 CFR 1500 et. seq.) by scoping through public comments. Scoping, which is integral to the process for implementing NEPA, provides a process to ensure that (1) issues are identified early and properly studied; (2) issues of little significance do not consume substantial time and effort; (3) the Draft PEIS is thorough and balanced; and (4) delays caused by an inadequate PEIS are avoided.

Public scoping is a process for determining the scope of issues to be addressed in this PEIS and for identifying the issues related to the Proposed Action that may have a significant effect on the environment. The scoping process begins with publication of this notice. The Coast Guard seeks to do the following during the scoping process:

• Invite the participation of Federal, State, and local agencies, any affected Indian tribe, and other interested persons;

• Consult with affected Federally Recognized Tribes on a government-to-government basis in accordance with Executive Order 13175 and other policies. Native American concerns, including potential impacts on Treaty rights, Indian trust assets, and cultural resources, will be given appropriate consideration;

• Determine the scope and the issues to be analyzed in depth in the PEIS;

• Indicate any related environmental assessments or environmental impact statements that are not part of the PEIS;

• Identify other relevant environmental review and consultation requirements, such as Coastal Zone Management Act consistency evaluations, and threatened and endangered species and habitat impacts; and

• Indicate the relationship between timing of the environmental review and other aspects of the application process.

With this NOI, Federal, State, Tribal, and local agencies with jurisdiction or special expertise with respect to environmental issues in the project area are asked to formally cooperate with the Coast Guard in the preparation of the PEIS.

Once the scoping process is complete, Coast Guard will prepare a Draft PEIS and will publish a Federal Register notice announcing its public availability. The public will be provided with an opportunity to review and comment on the Draft PEIS. After Coast Guard considers those comments, the Final PEIS will be prepared and its availability similarly announced to solicit public review and comment. Comments received during the Draft PEIS review period will be available in the public docket and made available in the Final PEIS.

Pursuant to the CEQ regulations, Coast Guard invites public participation in the NEPA process. This notice requests public participation in the scoping process, establishes a public comment period, and provides information on how to participate.

The 45-day public scoping period begins January 23, 2024 and ends March 8, 2024. Comments and related material submitted to the online docket via https://www.regulations.gov/ must be received by the Coast Guard on or before March 8, 2024 must be postmarked on or before that same date. Comments may also be provided at one of the public meetings referenced in the “Public Participation and Request for Comments” portion of the SUPPLEMENTARY INFORMATION section.

We encourage you to submit specific, timely, substantive, and relevant comments through the Federal Decision Making Portal at https://www.regulations.gov, on the site provided when searching the above docket number.

In submissions, please include the docket number for this Notice of Intent and provide reasoning for comments. To be considered timely, comments must be received on or before February 27, 2024 to be considered in the Draft PEIS. We will consider all substantive and relevant comments received during the comment period.

We accept anonymous comments. Comments we post to https://www.regulations.gov will include any personal information you have provided. For more about privacy and submissions in response to this document, see DHS's eRulemaking System of Records notice (85 FR 14226, March 11, 2020).

We review all comments received, but we will only post comments that address the topic of the notice. We may choose not to post off-topic, inappropriate, or duplicate comments that we receive. Documents mentioned in this Notice of Intent as being available in the docket, and posted public comments, will be in the online docket at https://www.regulations.gov and can be viewed by following that website's instructions.

This notice is issued under authority found in 42 U.S.C. 4332.

Dated: January 17, 2024.
M.D. Emerson,
Director, Marine Transportation System.

[FR Doc. 2024-01215 Filed 1-19-24; 4:15 pm]

BILLING CODE 9110-04-P